NUCLEAR REGULATORY COMMISSION

[Docket No. 52-011-ESP; ASLBP No. 07-850-01-ESP-BD01]

Atomic Safety and Licensing Board Panel; In the Matter of Southern Nuclear Operating Co.; (Early Site Permit for Vogtle ESP Site); Memorandum and Order; (Notice of Opportunity To Make Oral or Written Limited Appearance Statements)

March 20, 2008.

Before the Licensing Board: G. Paul Bollwerk, III, Chairman, Nicholas G. Trikouros, Dr. James F. Jackson.

The Atomic Safety and Licensing Board hereby gives notice that, in accordance with 10 CFR 2.315(a), it will entertain oral limited appearance statements from members of the public in connection with this proceeding in which applicant Southern Nuclear Operating Company (SNC) seeks an early site permit (ESP) under 10 CFR Part 52 for an additional two reactors at the site of its existing Vogtle Electric Generating Plant near Waynesboro, Georgia. The ESP application involves various site safety issues, environmental protection issues, and plans for coping with emergencies that, if resolved in favor of SNC, generally would not be subject to relitigation if SNC later applies under Part 52 for a combined operating license that would authorize it to construct and operate the additional reactors at the Vogtle site.

A. Date, Time, and Location of Oral Limited Appearance Statement Sessions

These sessions will be on the following dates at the specified location and times:

1. Date: Sunday, April 27, 2008 (if there is sufficient interest).

Time: 4 to 6 p.m. Eastern Daylight Time (EDT).

Location: DoubleTree Hotel and Convention Center, 2651 Perimeter Parkway, Augusta, Georgia.

2. Date: Monday, April 28, 2008 (if there is sufficient interest).

Time: Evening Session-7 to 9 p.m. EDT.

Location: Same as Session 1 above.

B. Participation Guidelines for Oral Limited Appearance Statements

Any person not a party, or the representative of a party, to the proceeding will be permitted to make an oral statement setting forth his or her position on matters of concern relating to this proceeding. Although these statements do not constitute testimony or evidence, they nonetheless may help the Licensing Board and/or the parties in their consideration of the issues in this proceeding.

In that regard, the contested issues currently before the Board in this proceeding that have been raised by the Joint Intervenors¹ concern facility cooling system impacts on aquatic resources and implementing a dry cooling system as a design alternative. Additionally, in accord with the agency's regulations governing ESP proceedings, this Board will at a later time be conducting a so-called “mandatory” hearing in which it will consider whether, with respect to those safety and environmental matters associated with the SNC ESP application that are not the subject of contested issues raised by intervenors, the NRC Staff performed an adequate review of the SNC application and made findings relative to that review with reasonable support in logic and fact.

¹ Joint Intervenors include the Center for a Sustainable Coast, Savannah Riverkeeper, Southern Alliance for Clean Energy, Atlanta Women's Action for New Directions, and Blue Ridge Environmental Defense League.

Oral limited appearance statements will be entertained during the hours specified above, or such lesser time as may be necessary to accommodate the speakers who are present. In this regard, if all scheduled and unscheduled speakers present at a session have made a presentation, the Licensing Board reserves the right to terminate the session before the ending times listed above. The Board also reserves the right to cancel the Sunday afternoon and/or Monday evening sessions scheduled above if there has not been a sufficient showing of public interest as reflected by the number of preregistered speakers.

Any member of the public who plans to attend the limited appearance sessions is strongly advised to arrive early to allow time to pass through any security measures that may be employed. Attendees are also requested not to bring any unnecessary hand-carried items, such as packages, briefcases, backpacks, or other items that might need to be examined individually. Items that could readily be used as weapons will not be permitted in the rooms where these sessions will be held. Also, during these sessions, signs no larger than 18 inches by 18 inches will be permitted, but may not be attached to sticks, held over one's head, or moved about in the room.

The time allotted for each statement normally will be no more than five minutes. Nonetheless, to ensure everyone will have an opportunity to speak, the time allotted for each statement may be further limited depending on the number of written requests to make an oral statement that are submitted in accordance with section C below and/or the number of persons present at the designated times. In addition, in the case of the Monday evening session, although an individual who previously addressed the Licensing Board at the Sunday afternoon limited appearance session may request an opportunity to make an additional presentation, the Board reserves the right to defer such additional presentations until after it has heard from speakers who have not had an opportunity to make an initial presentation.

C. Submitting a Request To Make an Oral Limited Appearance Statement

Persons wishing to make an oral statement who have submitted a timely written request to do so will be given priority over those who have not filed such a request. To be considered timely, a written request to make an oral statement must either be mailed, faxed, or sent by e-mail so as to be received by 5 p.m. EDT on Friday, April 18, 2008. The request must specify the session (Sunday or Monday) during which the requester wishes to make an oral statement. Based on its review of the requests received by April 18, 2008, the Licensing Board may decide that the Sunday afternoon and/or Monday evening sessions will not be held due to a lack of adequate interest in those sessions.

Written requests to make an oral statement should be submitted to:

Mail: Administrative Judge G. Paul Bollwerk III, Atomic Safety and Licensing Board Panel, Mail Stop T-3 F23, U.S. Nuclear Regulatory Commission, Washington, DC 20555-0001.

Fax: (301) 415-5599 (verification (301) 415-6094).

E-mail: map4@nrc.gov and gpb@nrc.gov.

D. Submitting Written Limited Appearance Statements

A written limited appearance statement may be submitted to the Board regarding this proceeding at any time. Such statements should be sent to the Office of the Secretary using one of the methods prescribed below, with a copy sent to the Licensing Board Chairman using the same method at the mail/e-mail address or fax number listed in section C above.

Mail: Office of the Secretary, Rulemakings and Adjudications Staff, U.S. Nuclear Regulatory Commission, Washington, DC 20555-0001.

Fax: (301) 415-1101 (verification (301) 415-1966).

E-mail: hearingdocket@nrc.gov.

E. Availability of Documentary Information Regarding the Proceeding

General information regarding the Vogtle ESP proceeding can be found on the agency's Web site at http://www.nrc.gov/reactors/new-licensing/esp/vogtle.html. Additionally, documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (the Public Electronic Reading Room).² Persons who do not have access to ADAMS or who encounter problems in accessing the documents located in ADAMS should contact the NRC PDR reference staff by telephone at (800) 397-4209 or (301) 415-4737, or by e-mail to pdr@nrc.gov.

² Some documents determined by the staff to contain “sensitive” information are publicly available only in redacted form; non-sensitive documents are publicly available in their complete form. In addition, some documents that may contain information proprietary to SNC are publicly available only in redacted form.

F. Scheduling Information Updates

Any updated/revised scheduling information regarding the limited appearance sessions can be found on the NRC Web site at http://www.nrc.gov/public-involve/public-meetings/index.cfm or by calling (800) 368-5642, extension 5036, or (301) 415-5036.

It is so ordered.

Dated Rockville, Maryland: March 20, 2008.
For the Atomic Safety and Licensing Board.³
³ Copies of this memorandum and order were sent this date by the agency's E-Filing system to counsel for (1) applicant SNC; (2) Joint Intervenors; and (3) the staff.
G. Paul Bollwerk III,
Administrative Judge.

[FR Doc. E8-6157 Filed 3-25-08; 8:45 am]

BILLING CODE 7590-01-P